DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 24, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Business-Cooperative Service

Title: Fertilizer Production Expansion Program.

OMB Control Number: 0570-0081.

Summary of Collection: On July 9, 2021, Executive Order (E.O.) 14036, “Promoting Competition in the American Economy” was issued, which created a White House Competition Council and directed federal agencies to enhance fairness and competition. In response, the United States Department of Agriculture (USDA) announced on March 11, 2022, that it would support additional fertilizer production to help American farmers address rising costs and spur competition as part of the whole-of-government effort to enhance fair and competitive markets along the same lines as the independent food processing investments being made as part of the Food System Transformation Effort.

The Fertilizer Production Expansion Program (FPEP) is authorized by the Commodity Credit Corporation (CCC) Charter Act to assist agricultural producers through grants, purchases, payments, and other operations, and makes available materials and facilities required in the production and marketing of agricultural commodities. Through FPEP, USDA is supporting new and expanded supplies of fertilizer and alternatives that play the same role as fertilizer to United States farmers as a key input necessary for production of agricultural commodities. The FPEP Program will be administered by the USDA, Rural Development (RD) Rural Business Cooperative Service (RBCS). RBCS has developed requirements for FPEP, prepared a Request for Applications (RFA) and up to $500 million will be made available in competitive grants.

The purpose of FPEP is to expand capacity, improve competition, and increase supply chain resilience within the agricultural fertilizer and nutrient management sector, in connection with the production of agricultural commodities.

Need and Use of the Information: The information collected will be used to determine applicant and project eligibility, conduct technical evaluations, calculate a priority score, rank and compete the application, as applicable, in order to be considered. Lack of adequate information to make the determination could result in the improper administration and appropriation of Federal grant funds.

Description of Respondents: State, Local, and Tribal Governments.

Number of Respondents: 2,241.

Frequency of Responses: Reporting: Annually.

Total Burden Hours: 26,372.

Levi S. Harrell,
Departmental Information Collection Clearance Officer.

[FR Doc. 2023-05985 Filed 3-22-23; 8:45 am]

BILLING CODE 3410-XY-P